DEPARTMENT OF ENERGY

Federal Energy Regulatory Commission

Sunshine Act Meeting Notice

The following notice of meeting is published pursuant to section 3(a) of the government in the Sunshine Act (Pub. L. 94-409), 5 U.S.C.552b:

AGENCY HOLDING MEETING: Federal Energy Regulatory Commission.

DATE AND TIME: October 21, 2021, 10 a.m.

PLACE: Open to the public via audio Webcast only.¹

¹ Join FERC online to listen live at http://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1083rd—Meeting
[Open meeting; October 21, 2021 10 a.m.]
Item No. | Docket No. | Company
ADMINISTRATIVE
A-1 | AD22-1-000 | Agency Administrative Matters.
A-2 | AD22-2-000 | Customer Matters, Reliability, Security and Market Operations.
A-3 | AD06-3-000 | 2021-2022 Winter Energy Market and Reliability Assessment.
ELECTRIC
E-1 | Omitted
E-2 | ER21-2283-000 | Phillips 66 Company.
E-3 | ER21-2426-000 | CPRE 1 Lessee, LLC.
E-4 | Omitted
E-5 | EL21-40-000 | Athens Utilities Board, Gibson Electric.
| TX21-1-000 | Membership Corporation, Joe Wheeler Electric Membership Corporation and Volunteer Energy Cooperative v. Tennessee Valley Authority.
E-6 | ER19-2505-004, ER19-2505-006 | Southern California Edison Company.
E-7 | ER10-2042-035 | Calpine Energy Services, L.P.
| ER10-1944-008 | Bethpage Energy Center 3, LLC.
| ER10-2051-010 | Calpine Bethlehem, LLC.
| ER10-1942-027 | Calpine Construction Finance Co., L.P.
| ER17-696-015 | Calpine Energy Solutions, LLC.
| ER14-2931-008 | Calpine Fore River Energy Center, LLC.
| ER10-2043-010 | Calpine Mid-Atlantic Generation, LLC.
| ER10-2029-012 | Calpine Mid-Atlantic Marketing, LLC.
| ER10-2041-010 | Calpine Mid Merit, LLC.
| ER18-1321-003 | Calpine Mid-Merit II, LLC.
| ER10-2040-010 | Calpine New Jersey Generation, LLC.
| ER20-1939-001 | Calpine Northeast Development, LLC.
| ER10-1938-030 | Calpine PowerAmerica—CA, LLC.
| ER10-2036-011 | Calpine Vineland Solar, LLC.
| ER10-1934-029 | CES Marketing IX, LLC.
| ER10-1893-029 | CES Marketing X, LLC.
| ER10-3051-034 | Champion Energy, LLC.
| ER10-2985-033 | Champion Energy Marketing LLC.
| ER10-3049-034 | Champion Energy Services, LLC.
| ER10-1889-008 | CPN Bethpage 3rd Turbine, Inc.
| ER10-3260-010 | Granite Ridge Energy, LLC.
| ER10-1895-008 | KIAC Partners.
| ER10-1870-008 | Nissequogue Cogen Partners.
| ER11-4369-014 | North American Power and Gas, LLC.
| ER16-2218-014 | North American Power Business, LLC.
| ER10-1862-029 | Power Contract Financing, L.L.C.
| ER10-1858-008 | TBG Cogen Partners.
| ER13-1401-008 | Westbrook Energy Center, LLC.
| ER10-2044-010 | Zion Energy LLC.
E-8 | ER17-1821-006 | Panda Stonewall LLC.
E-9 | ER13-1667-005 | Battery Utility of Ohio, LLC.
E-10 | ER10-1585-016 | Alabama Electric Marketing, LLC.
| ER10-2480-011 | Berkshire Power Company, LLC.
| ER10-1594-016 | California Electric Marketing, LLC.
| ER16-733-007 | LQA, LLC.
| ER10-1617-016 | New Mexico Electric Marketing, LLC.
| ER16-1148-007 | Tenaska Energia de Mexico, S. de R.L. de C.V.
| ER18-1960-003 | Tenaska Pennsylvania Partners, LLC.
| ER12-60-018 | Tenaska Power Management, LLC.
| ER10-1632-018 | Tenaska Power Services Co.
| ER10-1626-012 | Tenaska Virginia Partners, L.P.
| ER10-1628-016 | Texas Electric Marketing, LLC.
E-11 | ER21-2718-000 | California Independent System Operator Corporation.
E-12 | ER10-3230-011 | Wheelabrator Portsmouth Inc.
| ER10-3237-011 | Wheelabrator Frackville Energy Company Inc.
| ER10-3239-011 | Wheelabrator Westchester, L.P.
| ER10-3240-011 | Wheelabrator North Andover Inc.
| ER10-3253-011 | Wheelabrator Bridgeport, L.P.
| ER13-1485-011 | Wheelabrator Baltimore, L.P.
| ER14-1777-010 | Wheelabrator Falls Inc.
| ER15-2722-007 | Wheelabrator Saugus Inc.
| ER18-1310-002 | Wheelabrator Millbury Inc.
| ER19-461-002 | Wheelabrator Concord Company, L.P.
E-13 | ER21-530-001 | Midcontinent Independent System Operator, Inc.
E-14 | ER10-2906-014 | Morgan Stanley Capital Group Inc.
| ER10-2908-014 | MS Solar Solutions Corp.
| ER19-1716-002 | Morgan Stanley Energy Structuring, L.L.C.
| ER11-4393-008 | TAQA Gen X LLC.
| ER14-477-002 | Red Oak Power, LLC.
| ER11-3460-012 | Bayonne Energy Center, LLC.
| ER12-1301-010 | Zone J Tolling Co., LLC.
| ER11-4669-007 | NaturEner Montana Wind Energy, LLC.
| ER11-4670-007 | NaturEner Power Watch, LLC.
| ER12-709-006 | NaturEner Wind Watch, LLC.
E-15 | ER21-263-001 | Startrans IO, L.L.C.
E-16 | ER21-2305-000 | Pacific Gas and Electric Company.
E-17 | EC21-99-000 | Panda Stonewall LLC.
E-18 | EL20-63-001 | City of Alameda, California v. Pacific Gas and Electric Company.
GAS
G-1 | RP21-751-000 | ConocoPhillips Company, Direct Energy Business Marketing, LLC, Exelon Corporation, and NextEra Energy Marketing, LLC v. Panhandle Eastern Pipe Line Company, LP.
| RP21-813-000 | Spire Marketing Inc. v. Panhandle Eastern Pipe Line Company, LP.
G-2 | RP21-829-000 | Coalition for Fair Fuel Rates v. Columbia Gulf Transmission, LLC.
HYDRO
H-1 | P-9685-034 | Ampersand Cranberry Lake Hydro, LLC.
H-2 | P-15010-000 | Renewable Energy Aggregators.
H-3 | P-2197-137 | Cube Yadkin Generation LLC.
H-4 | P-3011-017 | Natco Products Corporation.
H-5 | P-1984-258, P-1984-260 | Wisconsin River Power Company.
H-6 | P-2114-315 | Public Utility District No. 2 of Grant County, Washington.
Certificates
C-1 | CP19-514-000 | Corpus Christi Liquefaction, LLC.
C-2 | CP19-515-000 | Sabine Pass Liquefaction, LLC and Sabine Pass LNG, L.P.
C-3 | CP21-486-000 | Northern States Power Company, a Minnesota Corporation.
C-4 | CP15-8-000 | Northwest Pipeline LLC.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: October 14, 2021.
Kimberly D. Bose,
Secretary.

[FR Doc. 2021-22843 Filed 10-15-21; 4:15 pm]

BILLING CODE 6717-01-P